DEPARTMENT OF ENERGY

Federal Energy Regulatory Commission

[Docket No. RP03-601-000]

TransColorado Gas Transmission Company; Notice of Tariff Filing

September 11, 2003.

Take notice that on September 9, 2003, TransColorado Gas Transmission Company (TransColorado) tendered for to become part of its FERC Gas Tariff, First Revised Volume No. 1, Original Sheet No. 229A, to be effective October 9, 2003.

TransColorado states that the purpose of this filing is to supplement TransColorado's right of first refusal tariff provisions as contained in Section 7 of the General Terms and Conditions (GT&C) to: (1) reflect a new right of first refusal notice provision that would apply in the event a construction project is proposed; and (2) allow firm shippers to extend the terms of their service agreements and not be subject to the otherwise applicable right of first refusal process.

TransColorado states that a copy of this filing has been served upon on all of its customers and effected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 22, 2003.

Magalie R. Salas,
Secretary.

[FR Doc. 03-23811 Filed 9-17-03; 8:45 am]

BILLING CODE 6717-01-P